DEPARTMENT OF TRANSPORTATION

Surface Transportation Board

[STB Finance Docket No. 34316 (Sub-No. 1)]

The Burlington Northern and Santa Fe Railway Company—Trackage Rights Exemption—Union Pacific Railroad Company

AGENCY: Surface Transportation Board, DOT.

ACTION: Petition for partial revocation.

SUMMARY: The Board, under 49 U.S.C. 10502, exempts the temporary trackage rights arrangement between The Burlington Northern and Santa Fe Railway Company (BNSF) and Union Pacific Railroad Company (UP) described in STB Finance Docket No. 34316,¹ to permit them to expire upon completion of the construction of BNSF's rail line between Kamey and Seadrift, TX.²

¹ The temporary trackage rights exempted in The Burlington Northern and Santa Fe Railway Company—Trackage Rights Exemption—Union Pacific Railroad Company, STB Finance Docket No. 34316 (STB served Mar. 12, 2003) are over UP's Port Lavaca Subdivision from milepost 15.4 to milepost 14.2 and from milepost 6.95 to milepost 6.0. These segments are on either side of a 7.25-mile portion of UP's Port Lavaca Subdivision over which BNSF was granted an exemption for overhead trackage rights in the same notice. This petition does not involve those overhead trackage rights.

² BNSF was granted authority to construct and operate a railroad line in The Burlington Northern and Santa Fe Railway Company—Construction and Operation Exemption—Seadrift and Kamey, TX, STB Finance Docket No. 34003 (STB served Jan. 25, 2002). BNSF estimates that the construction will be completed before the end of June 2003.

DATES: This exemption is effective on June 15, 2003. Petitions to stay must be filed by May 27, 2003. Petitions to reopen must be filed by June 5, 2003.

ADDRESSES: An original and 10 copies of all pleadings referring to STB Finance Docket No. 34316 (Sub-No. 1) must be filed with the Surface Transportation Board, 1925 K Street, NW., Washington, DC 20423-0001. In addition, a copy of all pleadings must be served on petitioner's representative: Sarah W. Bailiff, Senior General Attorney, The Burlington Northern and Santa Fe Railway Company, P.O. Box 961039, Fort Worth, TX 76161-0039.

FOR FURTHER INFORMATION CONTACT: Beryl Gordon, (202) 565-1600. (Assistance for the hearing impaired is available through the Federal Information Relay Service (FIRS) at 1-800-877-8339.)

SUPPLEMENTARY INFORMATION: Additional information is contained in the Board's decision. Copies of the decision may be purchased from Dã 2 Dã Legal Copy Service by calling (202) 293-7776 (assistance for the hearing impaired is available through FIRS at 1-800-877-8339) or by visiting Suite 405, 1925 K Street, NW., Washington, DC 20006.

Board decisions and notices are available on our Web site at http://www.stb.dot.gov.

Decided: May 9, 2003.
By the Board, Chairman Nober and Commissioner Morgan.
Vernon A. Williams,
Secretary.

[FR Doc. 03-12261 Filed 5-15-03; 8:45 am]

BILLING CODE 4915-00-P